DEPARTMENT OF TRANSPORTATION

Office of the Secretary of Transportation

[DOT Docket No. DOT-OST-2010-0074]

The Future of Aviation Advisory Committee (FAAC) Subcommittee on Competitiveness and Viability; Notice of Meeting

AGENCY: U.S. Department of Transportation, Office of the Secretary of Transportation.

ACTION: Notice of meeting.

SUMMARY: The Department of Transportation (DOT), Office of the Secretary of Transportation, announces the fourth meeting of the FAAC Subcommittee on Competitiveness and Viability, which will be held in Denver, Colorado. This notice provides details on the date, time, and location of the meeting, which will be open to the public. The purpose of the FAAC is to provide advice and recommendations to the Secretary of Transportation to ensure the competitiveness of the U.S. aviation industry and its capability to manage effectively the evolving transportation needs, challenges, and opportunities of the global economy. The Subcommittee on Competitiveness and Viability is charged with examining changes in the operating and competitive structures of the U.S. airline industry; considering innovative strategies to open up new international markets and expand commercial opportunities in existing markets; investigating strategies to encourage the development of cost-effective, cutting-edge technologies and equipment that are critical for a competitive industry coping with increasing economic and environmental challenges; and examining the adequacy of current Federal programs to address the availability of intermodal transportation options and alternatives, small and rural community access to the aviation transportation system, the role of State and local governments in contributing to such access, and how the changing competitive structure of the U.S. airline industry is likely to transform travel habits of small and rural communities.

DATES: The Subcommittee on Competitiveness and Viability meeting will be held on October 15, 2010, from 10 a.m. to 2:30 p.m. Mountain Daylight Time.

ADDRESSES: The meeting will be held in the New Press Room, Denver International Airport, 8500 Peña Boulevard, Main Terminal, Level 6, Denver, Colorado 80249.

Public Access: The meeting is open to the public. (See below for registration instructions.)

Public Comments: Persons wishing to offer written comments and suggestions concerning the activities of the advisory committee or subcommittee should file comments in the Public Docket (Docket Number DOT-OST-2010-0074 at www.regulations.gov) or alternatively through e-mail at FAAC@dot.gov. If comments and suggestions are intended specifically for the Subcommittee on Competitiveness and Viability, the term “Competition” should be listed in the subject line of the message. To ensure such comments can be considered by the subcommittee before its October 15, 2010, meeting, public comments must be filed by 5 p.m. Eastern Daylight Time Thursday, October 7, 2010.

SUPPLEMENTARY INFORMATION:

Agenda

Under section 10(a)(2) of the Federal Advisory Committee Act (5 U.S.C. App. 2), we are giving notice of a meeting of the Subcommittee on Competitiveness and Viability of the Future of Aviation Advisory Committee taking place on October 15, 2010, at 10 a.m. to 2:30 p.m. Mountain Daylight Time, in the New Press Room, Denver International Airport, 8500 Peña Boulevard, Main Terminal, Level 6, Denver, Colorado 80249. The agenda includes—

1. Discussion of topics offered by subcommittee teams for referral to the FAAC on the subject of competitiveness and viability of the aviation industry,

2. Establishment of a plan and timeline for further work, and

3. Identification of priority issues for the next subcommittee meeting.

Registration

The meeting room can accommodate up to 35 members of the public. Persons desiring to attend must pre-register by October 7, 2010, through e-mail to FAAC@dot.gov. The term “Registration: Competition” should be listed in the subject line of the message, and admission will be limited to the first 35 persons to pre-register and receive a confirmation of their pre-registration. No arrangements are being made for audio or video transmission or for oral statements or questions from the public at the meeting. Minutes of the meeting will be taken and will be made available to the public.

Request for Special Accommodations

The DOT is committed to providing equal access to this meeting for all participants. If you need alternative formats or services because of a disability, please send a request to FAAC@dot.gov with the term “Special Accommodations” listed in the subject line of the message by close of business Thursday, October 7, 2010.

FOR FURTHER INFORMATION CONTACT: Todd Homan, Director, Office of Aviation Analysis, U.S. Department of Transportation; Room 86W-312, 1200 New Jersey Avenue, SE., Washington, DC 20590; (202) 366-5903.

Issued in Washington, DC, on September 24, 2010.
Pamela Hamilton-Powell,
Designated Federal Official, Future of Aviation Advisory Committee.

[FR Doc. 2010-24540 Filed 9-29-10; 8:45 am]

BILLING CODE P